DEPARTMENT OF ENERGY

Federal Energy Regulatory Commission

[Project Nos. 2978-005, 2979-006, and 2980-007—Michigan]

Traverse City Light & Power; Notice of Availability of Environment Assessment

March 21, 2006.

In accordance with the National Environmental Policy Act of 1969 and the Federal Energy Regulatory Commission's regulations, the Office of Energy Projects has reviewed the application requesting the Commission's authorization to surrender the license for the Brown Bridge Project (FERC Project No. 2978) and exemptions for the Boardman Dam Project (FERC Project No. 2979) and the Sabin Dam Project (FERC Project No. 2980). These projects are located on the Boardman River in Grand Traverse County, Michigan. An environmental assessment (EA) has been prepared.

In the EA, the Commission's staff concludes that approval of the subject surrender of license and exemptions would not produce any significant adverse environmental impacts, consequently the proposal would not constitute a major federal action significantly affecting the quality of the human environment.

A copy of the EA is attached to a Commission order titled “Order Approving Conditional Surrender of License and Exemptions”, issued March 17, 2006, and is available at the Commission's Public Reference Room. A copy of the EA may also be viewed on the Commission's Web site at http://www.ferc.gov using the “elibrary” link. Enter the docket numbers (P-2978, or P-2979 or P-2980) in the docket field to access the document. For assistance, call (202) 502-8222 or (202) 502-8659 (for TTY).

Magalie R. Salas,
Secretary.

[FR Doc. E6-4465 Filed 3-27-06; 8:45 am]

BILLING CODE 6717-01-P